DEPARTMENT OF JUSTICE

Office of Justice Programs

[OJP (OJP) Docket No. 1462]

Meeting of the Public Safety Officer Medal of Valor Review Board

AGENCY: Office of Justice Programs (OJP), Justice.

ACTION: Notice of meeting.

SUMMARY: This is an announcement of a meeting of the Public Safety Officer Medal of Valor Review Board to review applications for the 2005-2006 Medal of Valor Awards and to discuss upcoming activities. The meeting time and location are located below.

DATES: November 20, 2006, 10 a.m. to 5 p.m.

ADDRESSES: The meeting will take place at the Office of Justice Programs, 810 7th Street, NW., Washington, DC 20531.

FOR FURTHER INFORMATION CONTACT: Michelle Shaw, Acting Special Assistant to the Director, Bureau of Justice Assistance, Office of Justice Programs, 810 7th Street, NW., Washington, DC 20531, by telephone at (202) 514-9354, toll free (866) 859-2687, or by e-mail at michelle.a.shaw@usdoj.gov.

SUPPLEMENTARY INFORMATION: The Public Safety Officer Medal of Valor Review Board carries out those advisory functions specified in 42 U.S.C. 15202. Pursuant to 42 U.S.C. 15201, the President of the United States is authorized to award the Public Safety Officer Medal of Valor, the highest national award for valor by a public safety officer. The purpose of this meeting is to review applications for the 2005-2006 Medal of Valor Awards and to discuss upcoming activities related thereto.

This meeting will be open to the public. For security purposes, members of the public who wish to attend must register at least five (5) days in advance of the meeting by contacting Ms. Shaw. All attendees will be required to sign in at the front desk. Note: Photo identification will be required for admission. Additional identification documents may be required.

Access to the meeting will not be allowed without prior registration. Anyone requiring special accommodations should contact Ms. Shaw at least five (5) days in advance of the meeting.

Dated: November 2, 2006.
Cybele Daley,
Deputy Assistant Attorney General, Office of Justice Programs.

[FR Doc. E6-18542 Filed 11-2-06; 8:45 am]

BILLING CODE 4410-18-P